DEPARTMENT OF HEALTH AND HUMAN SERVICES

National Institutes of Health

Request for Information (RFI) on the National Institutes of Health Plan to Develop the Genetic Testing Registry; Notice

On June 11, 2010, the National Institutes of Health (NIH), an agency within the Department of Health and Human Services (HHS), published a Request for Information (RFI) on its plan to develop a voluntary Genetic Testing Registry (GTR), a centralized public resource that will provide information about the availability, scientific basis, and usefulness of genetic tests (see Vol. 75, No. 112, page 33317). The NIH is extending the comment period for the RFI from July 12, 2010, to August 2, 2010. A copy of the RFI is also available at http://www.ncbi.nlm.nih.gov/gtr/.

DATES: To ensure consideration, comments must now be received by August 2, 2010.

ADDRESSES: Individuals, groups, and organizations interested in commenting on the NIH plan to develop the GTR, as outlined in this RFI, may submit comments by e-mail to GTR@od.nih.gov or by mail to the following address: NIH GTR RFI Comments, National Institutes of Health, Office of Science Policy, 6705 Rockledge Drive, Room 750, Bethesda, MD 20892. Comments will be made publicly available, including any personally identifiable or confidential business information that they contain. Trade secrets should not be submitted.

FOR FURTHER INFORMATION CONTACT: Cathy Fomous, PhD, NIH Office of Biotechnology Activities, 6705 Rockledge Drive, Room 750, Bethesda, MD 20892; telephone 301-496-9838; fax 301-496-9839; e-mail CFomous@od.nih.gov.

Dated: July 7, 2010.
Raynard S. Kington,
Deputy Director, National Institutes of Health.

[FR Doc. 2010-16904 Filed 7-9-10; 8:45 am]

BILLING CODE 4140-01-P